ENVIRONMENTAL PROTECTION AGENCY

40 CFR Part 300

[EPA-HQ-SFUND-1999-0013; FRL-9503-8]

National Oil and Hazardous Substances Pollution Contingency Plan; National Priorities List: Deletion of the Hiteman Leather Superfund Site

AGENCY: Environmental Protection Agency (EPA).

ACTION: Proposed rule; notice of intent.

SUMMARY: EPA, Region 2, is issuing a Notice of Intent to Delete the Hiteman Leather Superfund Site (Site), located in West Winfield, New York, from the National Priorities List (NPL) and requests public comments on this proposed action. The NPL, promulgated pursuant to Section 105 of the Comprehensive Environmental Response, Compensation, and Liability Act (CERCLA) of 1980, as amended, is an appendix of the National Oil and Hazardous Substances Pollution Contingency Plan (NCP). EPA and the State of New York, through the New York State Department of Environmental Conservation, have determined that all appropriate response actions under CERCLA, other than monitoring and maintenance and five-year reviews, have been completed. However, the deletion does not preclude future action under Superfund.

DATES: Comments must be received by January 12, 2012.

ADDRESSES: Submit your comments, identified by Docket ID no. EPA-HQ-SFUND-1999-0013, by one of the following methods:

Web site: http://www.regulations.gov. Follow the on-line instructions for submitting comments.

Email: mongelli.thomas@epa.gov.

Fax: To the attention of Thomas Mongelli at (212) 637-3966.

Mail: To the attention of Thomas Mongelli, Remedial Project Manager, Emergency and Remedial Response Division, U.S. Environmental Protection Agency, Region 2, 290 Broadway, 20th Floor, New York, NY 10007-1866.

Hand Delivery: Superfund Records Center, 290 Broadway, 18th Floor, New York, NY 10007-1866 (telephone: (212) 637-4308). Such deliveries are only accepted during the Record Center's normal hours of operation (Monday to Friday from 9 a.m. to 5 p.m.). Special arrangements should be made for deliveries of boxed information.

Instructions: Direct your comments to Docket ID no. EPA-HQ-SFUND-1999-0013: EPA's policy is that all comments received will be included in the Docket without change and may be made available online at http://www.regulations.gov, including any personal information provided, unless the comment includes information claimed to be Confidential Business Information (CBI) or other information whose disclosure is restricted by statute. Do not submit information that you consider to be CBI or otherwise protected through http://www.regulations.gov or via email. The http://www.regulations.gov Web site is an “anonymous access” system, which means EPA will not know your identity or contact information unless you provide it in the body of your comments. If you send comments to EPA via email, your email address will be included as part of the comment that is placed in the Docket and made available on the Web site. If you submit electronic comments, EPA recommends that you include your name and other contact information in the body of your comments and with any disks or CD-ROMs that you submit. If EPA cannot read your comments due to technical difficulties and cannot contact you for clarification, EPA may not be able to consider your comments. Electronic files should avoid the use of special characters and any form of encryption and should be free of any defects or viruses.

Docket: All documents in the Docket are listed in the http://www.regulations.gov index. Although listed in the index, some information is not publicly available, e.g., CBI or other information whose disclosure is restricted by statute. Certain other material, such as copyrighted material, will be publicly available only in hard copy. Publicly available Docket materials can be viewed electronically at http://www.regulations.gov or obtained in hard copy at:

U.S. Environmental Protection Agency, Region 2, Superfund Records Center, 290 Broadway, 18th Floor, New York, NY 10007-1866, Phone: (212) 637-4308, Hours: Monday to Friday from 9 a.m. to 5 p.m. and

West Winfield Library, Bisby Hall, 179 South Street, West Winfield, NY 13491, Phone: (315) 822-6394, Hours: Monday, Tuesday, Thursday, and Friday from 12:30-5:30 p.m., Wednesday from 10 a.m.-12 p.m. and 6-8 p.m., and Saturdays from 10 a.m.-12 p.m. (Sept.-May).

FOR FURTHER INFORMATION CONTACT: Thomas Mongelli, Remedial Project Manager, by mail at Emergency and Remedial Response Division, U.S. Environmental Protection Agency, Region 2, 290 Broadway, 20th floor, New York, NY 10007-1866; telephone at (212) 637-4256; fax at (212) 637-3966; or email at mongelli.thomas@epa.gov.

SUPPLEMENTARY INFORMATION: In the “Rules and Regulations” Section of today's Federal Register, EPA is publishing a direct final Notice of Deletion of the Site without prior Notice of Intent to Delete because EPA views this as a noncontroversial revision and anticipate no adverse comment. EPA has explained its reasons for this deletion in the preamble to the direct final Notice of Deletion. If EPA receives no adverse comment(s) on this Notice of Intent to Delete or the direct final Notice of Deletion, EPA will proceed with the deletion without further notice on this Notice of Intent to Delete. If EPA receives adverse comment(s), EPA will withdraw the direct final Notice of Deletion and it will not take effect. EPA will, as appropriate, address all public comments in a subsequent final Notice of Deletion based on this Notice of Intent to Delete. EPA will not institute a second comment period on this Notice of Intent to Delete. Any parties interested in commenting must do so at this time.

For additional information, see the direct final Notice of Deletion, which is located in the “Rules” section of this Federal Register.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923, 3 CFR, 1987 Comp., p. 193.

Dated: November 22, 2011.
Judith A. Enck,
Regional Administrator, EPA, Region 2.

[FR Doc. 2011-31914 Filed 12-12-11; 8:45 am]

BILLING CODE 6560-50-P